DEPARTMENT OF HOMELAND SECURITY

Coast Guard

33 CFR Parts 100 and 165

[Docket Number USCG-2020-0082]

RIN 1625-AA08; AA00

Special Local Regulations and Safety Zones; Coast Guard Sector Long Island Sound Annual and Recurring Safety Zone and Special Local Regulation Update

AGENCY: Coast Guard, DHS.

ACTION: Final rule.

SUMMARY: The Coast Guard is modifying the special local regulations and annual recurring marine events and safety zones regulations for firework displays and swim events in the Coast Guard Sector Long Island Sound Captain of the Port Zone. When enforced, these special local regulations and safety zones will restrict vessels from transiting regulated areas during certain annually recurring events. The special local regulations and safety zones are intended to expedite public notification and ensure the protection of the maritime public and event participants from the hazards associated with certain marine events.

DATES: This rule is effective July 27, 2020.

ADDRESSES: To view documents mentioned in this preamble as being available in the docket, go to https://www.regulations.gov, type USCG-2020-0082 in the “SEARCH” box and click “SEARCH.” Click on Open Docket Folder on the line associated with this rule.

FOR FURTHER INFORMATION CONTACT: If you have questions on this rule, call or email Marine Science Technician 2nd Class Melanie Hughes, Waterways Management Division, Sector Long Island Sound; telephone (203) 468-4583; email Melanie.A.Hughes1@uscg.mil.

SUPPLEMENTARY INFORMATION:

I. Table of Abbreviations

CFR Code of Federal Regulations

DHS Department of Homeland Security

FR Federal Register

NPRM Notice of Proposed Rulemaking

§ Section

U.S.C. United States Code

II. Background Information and Regulatory History

Swim events, fireworks displays, and marine events are held on an annual recurring basis on the navigable waters within the Coast Guard Sector Long Island Sound Captain of the Port (COTP) Zone. The Coast Guard has established special local regulations and safety zones for some of these annual recurring events on a case by case basis to ensure the protection of the maritime public and event participants from potential hazards. In the past, the Coast Guard has not received public comments or concerns regarding the impact to waterway traffic from regulations associated with these annually recurring events. Events were either added or deleted to the table of annual events based on their likelihood to recur in subsequent years. Additionally, minor changes to existing events such as position, date, or title, were made to ensure the accuracy of event details.

On April 21, 2020, the Coast Guard published a notice of proposed rulemaking (NPRM) titled Special Local Regulations and Safety Zones; Coast Guard Sector Long Island Sound Annual and Recurring Safety Zone and Special Local Regulation Update (85 FR 22049). There we stated why we issued the NPRM and invited comments on our proposed regulatory action. During the comment period that ended on May 21, 2020, we received five comments.

III. Legal Authority and Need for Rule

The Coast Guard issues this rulemaking under authority in 46 U.S.C. 70034 (previously 33 U.S.C. 1231). The COTP Sector Long Island Sound is amending 33 CFR 100.100 Special Local Regulations; Regattas and Boat Races in the Coast Guard Sector Long Island Sound Captain of the Port Zone, Table to § 100.100 and 33 CFR 165.151 Safety Zones; Fireworks Displays, Air Shows, and Swim Events in the Captain of the Port Long Island Sound Zone, Table to § 165.151.

The marine events listed therein include air shows, fireworks displays, and other marine related events requiring a limited access area restricting vessel traffic for safety purposes. The amendments to the tables will more accurately reflect the dates of marine events based on historical occurrences.

The rule applies to the annual recurring events listed in the Table to 100.100 and Table 165.151 in 33 CFR. The tables provide the event name and the locations of the events. Notifications will be made to the local maritime community through all appropriate means such as Local Notice to Mariners and Broadcast Notice to Mariners well in advance of the events. If the event does not have a date listed, then exact dates and times of the enforcement period will be announced through a Notice of Enforcement in the Federal Register.

This rule expands date ranges for marine events listed in 33 CFR parts 100 and 165 with the goal of significantly reducing the administrative burden on personnel. This rule is also removes four marine events from 33 CFR 165.151.

IV. Discussion of Comments, Changes, and the Rule

As noted above, we received five comments on our NPRM published April 21, 2020. There are no changes in the regulatory text of this rule from the proposed rule in the NPRM.

Two comments were general questions regarding the marking of fireworks safety zones. This rule expands the date ranges for events that are published in 33 CFR parts 100 and 165. In past years, some of these events fell outside the date range published in the CFR. In those circumstances, the Coast Guard would have to publish a temporary rule in the Federal Register with the revised date. Making these changes will better align the date ranges with the events and will also reduce the Coast Guard's administrative burden associated with publishing a temporary rule to reflect the revised date. Each marine event will have its own safety plan which will require the Coast Guard's review and validation. Each safety plan validated within the Sector Long Island Sound COTP Zone is unique to the individual event for which it has been submitted. Each event, therefore, will have individual methods and rules for marking boundaries, routes, and ensuring safe areas for their respective events.

A third comment questioned the mechanism for notifying the public of enforcement dates and the process for reviewing marine events and also communicated concerns related to COVID-19 and the associated challenges. This rule merely amends the date range for specific events listed in 33 CFR part 100 and 165. It is not a confirmation that the event will actually take place. For all marine events, including those listed in the CFR, the event sponsor is required to submit a marine event application. The Coast Guard reviews and considers each application individually and maintains the authority to approve or disapprove each event based on available and relevant information regardless of the event's listing in the CFR. If and when a marine event application is approved, the Coast Guard notifies the public of the event by a Broadcast Notice to Mariners, Local Notice to Mariners, and/or by Notice of Enforcement.

A fourth comment questioned the Coast Guard's consideration of small entities in the development of this rule. As stated above, this rule changes the date range only for specific events, all of which have already undergone the process of public review and notification. The regulations' effect on small entities was considered during the original comment period for each event.

A fifth comment was not relevant to this rulemaking.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This rule has not been designated a “significant regulatory action,” under Executive Order 12866. Accordingly, this rule has not been reviewed by the Office of Management and Budget (OMB), and pursuant to OMB guidance it is exempt from the requirements of Executive Order 13771.

This regulatory action determination is based on the revisions only being administrative in nature.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

This rule is amending 33 CFR 100 and 165. The amendments in question will have no impact on any small businesses outside of those already noted (if any) in previous rulemaking. To ensure the public is aware of the enforcement of the any regulations, the Coast Guard will issue a notice of the time and location of each regulated area through a Notice of Enforcement, Local Notice to Mariners, or Broadcast Notice to Mariners, as appropriate.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves special local regulations for various one-day marine events and safety zones for fireworks displays and one day swimming events. Normally such actions are categorically excluded from further review under paragraph L60 of Appendix A, Table 1 of DHS Instruction Manual 023-01-001-01, Rev. 01. A Memorandum for Record of Environmental Consideration supporting this determination is available in the docket where indicated under ADDRESSES.

G. Protest Activities

The Coast Guard respects the First Amendment rights of protesters. Protesters are asked to call or email the person listed in the FOR FURTHER INFORMATION CONTACT section to coordinate protest activities so that your message can be received without jeopardizing the safety or security of people, places or vessels.

List of Subjects

33 CFR Part 100

Marine Safety, Navigation (water), Reporting and recordkeeping requirements, Waterways.

33 CFR Part 165

Harbors, Marine safety, Navigation (water), Reporting and recordkeeping requirements, Security measures, Waterways.

For the reasons discussed in the preamble, the Coast Guard amends 33 CFR parts 100 and 165 as follows:

PART 100—SAFETY OF LIFE ON NAVIGABLE WATERS

1. The authority citation for part 100 continues to read as follows:

Authority: 46 U.S.C. 70041; 33 CFR 1.05-1.

2. Amend § 100.100 by revising the table to read as follows:

Table 1 to § 100.100
5 | May
5.1 Harvard-Yale Regatta, Thames River, New London, CT | • Date: A single day event in May or June. • Time: 8 a.m. until 5 p.m.
| • Location: All waters of the Thames River at New London, Connecticut, between the Penn Central Draw Bridge at position 41°21′46.94″ N, 072°05′14.46″ W to Bartlett Cove at position 41°25′35.9″ N, 072°05′42.89″ W (NAD 83). All positions are approximate.
5.2 Jones Beach Air Show | • Date: The Thursday through Sunday before Memorial Day each May.
| • Time:
| (1) The “No Entry Area” will be enforced each day from the start of the air show until 30 minutes after it concludes. Exact time will be determined annually.
| (2) The “Slow/No Wake Area” and the “No Southbound Traffic Area” will be enforced each day for six hours after the air show concludes. Exact time will be determined annually.
| • Location:
| (1) “No Entry Area”: Waters of the Atlantic Ocean off Jones Beach State Park, Wantagh, NY, contained within the following described area; beginning at a point on land at position 40°34′54″ N, 073°33′21″ W; then east along the shoreline of Jones Beach State Park to a point on land at position 40°35′53″ N, 073°28′48″ W; then south to a point in the Atlantic Ocean off of Jones Beach at position 40°35′05″ N, 073°28′34″ W; then west to position 40°33′15″ N, 073°33′09″ W; then north to the point of origin (NAD 83). All positions are approximate.
| (2) “Slow/No Wake Area”: All navigable waters between Meadowbrook State Parkway and Wantagh State Parkway and contained within the following area. Beginning in position 40°35′49.01″ N, 73°32′33.63″ W; then north along the Meadowbrook State Parkway to its intersection with Merrick Road in position 40°39′14″ N, 73°34′0.76″ W; then east along Merrick Road to its intersection with Wantagh State Parkway in position 40°39′51.32″ N, 73°30′43.36″ W; then south along the Wantagh State Parkway to its intersection with Ocean Parkway in position 40°35′47.30″ N, 073°30′29.17″ W; then west along Ocean Parkway to its intersection with Meadowbrook State Parkway at the point of origin (NAD 83). All positions are approximate.
| (3) “No Southbound Traffic Area”: All navigable waters of Zach's Bay south of the line connecting a point near the western entrance to Zach's Bay at position 40°36′29.20″ N, 073°29′22.88″ W and a point near the eastern entrance of Zach's Bay at position 40°36′16.53″ N, 073°28′57.26″ W (NAD 83). All positions are approximate.
6 | June
6.1 Swim Across America Greenwich | • Date: A single day event during June. • Time: 5:30 a.m. until noon.
| • Location: All navigable waters of Stamford Harbor within an area starting at a point in position 41°01′32.03″ N, 073°33′8.93″ W, then southeast to a point in position 41°01′15.01″ N, 073°32′55.58″ W; then southwest to a point in position 41°0′49.25″ N, 073°33′20.36″ W; then northwest to a point in position 41°0′58″ N, 073°33′27″ W; then northeast to a point in position 41°1′15.8″ N, 073°33′9.85″ W, then heading north and ending at point of origin (NAD 83). All positions are approximate.
7 | July
7.1 Connecticut River Raft Race, Middletown, CT | • Date: A single day between the last Saturday in July through first Saturday of August. • Time: 10 a.m. until 2 p.m.
| • Location: All waters of the Connecticut River near Middletown, CT, between Gildersleeve Island (Marker no. 99) at position 41°36′02.13″ N, 072°37′22.71″ W; and Portland Riverside Marina (Marker no. 88) at position 41°33′38.3″ N, 072°37′36.53″ W (NAD 83). All positions are approximate.
| • Additional Stipulations: Spectators or other vessels shall not anchor, block, loiter, or impede the transit of event participants or official patrol vessels in the regulated areas unless authorized by COTP or designated representative.
7.2 Dolan Family Fourth Fireworks | • Date: A single day event in July.
| • Time: To be determined annually.
| • Locations:
| (1) “No Entry Area”: All waters of Oyster Bay Harbor in Long Island Sound off Oyster Bay, NY, within a 1,000 foot radius of the launch platform in approximate position 40°53′42.50″ N, 073°30′04.30″ W (NAD 83).
| (2) “Slow/No Wake Area”: All waters of Oyster Bay Harbor in Long Island Sound off Oyster Bay, NY, contained within the following area; beginning at a point on land in position at 40°53′12.43″ N, 073°31′13.05″ W near Moses Point; then east across Oyster Bay Harbor to a point on land in position at 40°53′15.12″ N, 073°30′38.45″ W; then north along the shoreline to a point on land in position at 40°53′34.43″ N, 073°30′33.42″ W near Cove Point; then east along the shoreline to a point on land in position at 40°53′41.67″ N, 073°29′40.74″ W near Cooper Bluff; then south along the shoreline to a point on land in position 40°53′05.09″ N, 073°29′23.32″ W near Eel Creek; then east across Cold Spring Harbor to a point on land in position 40°53′06.69″ N, 073°28′19.9″ W; then north along the shoreline to a point on land in position 40°55′24.09″ N, 073°29′49.09″ W near Whitewood Point; then west across Oyster Bay to a point on land in position 40°55′5.29″ N, 073°31′19.47″ W near Rocky Point; then south along the shoreline to a point on land in position 40°54′04.11″ N, 073°30′29.18″ W near Plum Point; then northwest along the shoreline to a point on land in position 40°54′09.06″ N, 073°30′45.71″ W; then southwest along the shoreline to a point on land in position 40°54′03.2″ N, 073°31′01.29″ W; and then south along the shoreline back to point of origin (NAD 83). All positions are approximate.
7.3 Clam Shell Foundation Fireworks | • Date: A single day during July. • Time: To be determined annually.
| • Locations:
| (1) “No Entry Area”: All waters of Three Mile Harbor, East Hampton, NY, within a 1,000 foot radius of the launch platform in approximate position 41°01′15.49″ N, 072°11′27.5″ W (NAD 83).
| (2) “Northbound Traffic Only Area”: All waters of Three Mile Harbor, East Hampton, NY, contained within the following area; beginning at a point in position at 41°02′5.05″ N, 072°11′19.52″ W; then southeast to a point on land in position at 41°02′2.67″ N, 072°11′17.97″ W; then south along shoreline to a point on land in position at 41°01′35.26″ N, 072°11′9.56″ W; then southeast across channel to a point on land in position at 41°01′30.28″ N, 072°10″52.77″ W; then north along the shoreline to a point on land in position at 41°01′41.35″ N, 072° 10′52.57″ W; then north across channel to a point on land in position at 41°01′44.41″ N, 072°10′52.23″ W near the southern end of Sedge Island; then north along shoreline of Sedge Island to a point on land in position at 41°01′56.3″ N, 072°10′59.37″ W, near the northern end of Sedge Island; then northwest across the channel to a point on land in position 41°01′56.76″ N, 072°11′0.66″ W; then northwest along shoreline to a point on land in position 41°01′41.35″ N, 072°10′52.57″ W; then northwest to position at 41°02′5.92″ N, 072°11′16.73″ W; and then southwest to point of origin (NAD 83). All positions are approximate.
7.4 Jones Beach State Park Fireworks | • Date: A single day event in July. • Time: 8:30 p.m. to 10:30 p.m.
| • Locations:
| (1) “No Entry Area”: All waters off of Jones Beach State Park, Wantagh, NY, within a 1,000 foot radius of the launch platform in approximate position 40°34′56.68″ N, 073°30′31.19″ W (NAD 83).
| (2) “Slow/No Wake Area”: All navigable waters between Meadowbrook State Parkway and Wantagh State Parkway and contained within the following area. Beginning in position at 40°35′49.01″ N, 073°32′33.63″ W; then north along the Meadowbrook State Parkway to its intersection with Merrick Road in position at 40°39′14″ N, 073°34′0.76″ W; then east along Merrick Road to its intersection with Wantagh State Parkway in position at 40°39′51.32″ N, 073°30′43.36″ W; then south along the Wantagh State Parkway to its intersection with Ocean Parkway in position at 40°35′47.30″ N, 073°30′29.17″ W; then west along Ocean Parkway to its intersection with Meadowbrook State Parkway at the point of origin (NAD 83). All positions are approximate.
| (3) “No Southbound Traffic Area”: All navigable waters of Zach's Bay south of the line connecting a point near the western entrance to Zach's Bay in position at 40°36′29.20″ N, 073°29′22.88″ W and a point near the eastern entrance of Zach's Bay in position at 40°36′16.53″ N, 073°28′57.26″ W (NAD 83). All positions are approximate.
7.5 Maggie Fischer Memorial Great South Bay Cross Bay Swim | • Date: A single day during July. • Time: To be determined annually.
| • Location: Waters of the Great South Bay, NY, within 100 yards of the race course. Starting Point at the Fire Island Lighthouse Dock in position at 40°38′01″ N, 073°13′07″ W; then north-by-northwest to a point in position at 40°38′52″ N, 073°13′09″ W; then north-by-northwest to a point in position at 40°39′40″ N, 073°13′30″ W; then north-by-northwest to a point in position at 40°40′30″ N, 073°14′00″ W; and then north-by-northwest, finishing at Gilbert Park, Brightwaters, NY at position 40°42′25″ N, 073°14′52″ W (NAD 83). All positions are approximate.
7.6 Aquapalooza, Zach's Bay | • Date: A single day during July.
| • Time: 11:30 a.m. to 8 p.m.
| • Location: All navigable waters of Zach's Bay, Wantagh, NY, south of the line connecting a point near the western entrance to Zach's Bay in approximate position 40°36′29.20″ N, 073°29′22.88″ W and a point near the eastern entrance of Zach's Bay in approximate position 40°36′16.53″ N, 073°28′57.26″ W.
| • Additional stipulations: During the enforcement period vessel speed in the regulated area is restricted to no wake speed or 6 knots, whichever is slower. On the day of the event from 3 p.m. to 5:30 p.m. vessels may only transit the regulated area in the northbound direction or outbound direction.
7.7 Fran Schnarr Open Water Championship Swim | • Date: A single day during July. • Time: To be determined annually.
| • Location: Waters of Huntington Bay, NY, within 100 yards of the race course. Starting in position at 40°54′25.3″ N, 073°24′27.9″ W; then northeast to a position at 40°54′32″ N, 73°23′57.7″ W; then northwest to a position at 40°54′37.9″ N, 073°23′57.2″ W; then southwest to a position at 40°54′33.2″ N, 073°25′28.1″ W; then southeast to a position at 40°54′25.5″ N, 073°25′25.7″ W; and then southeast to point of origin (NAD 83). All positions are approximate.
8 | August
8.1 Riverfront Dragon Boat and Asian Festival | • Dates: A two day event in August. • Time: 8 a.m. until 4:30 p.m. each day.
| • Regulated area: All waters of the Connecticut River in Hartford, CT, between the Bulkeley Bridge at 41°46′10.10″ N, 072°39′56.13″ W and the Wilbur Cross Bridge at 41°45′11.67″ N, 072°39′13.64″ W (NAD 83). All positions are approximate.
8.2 Swim Across the Sound | • Date: A single day during August.
| • Time: To be determined annually.
| • Location: Waters of Long Island Sound from Port Jefferson, NY, in approximate position 40°58′11.71″ N, 073°05′51.12″ W; then northwest to Captain's Cove Seaport, Bridgeport, CT, in approximate position 41°09′25.07″ N, 073°12′47.82″ W (NAD 83).
8.3 Stonewall Swim | • Date: A single day event in August.
| • Time: 8:30 a.m. until 12:30 p.m.
| • Location: All navigable waters of the Great South Bay within a three miles long and half mile wide box connecting Snedecor Avenue in Bayport, NY, to Porgie Walk in Fire Island, NY. Formed by connecting the following points. Beginning at 40°43′40.24″ N, 073°03′41.50″ W; then to 40°43′40.00″ N, 073°03′13.40″ W; then to 40°40′04.13″ N, 073°03′43.81″ W; then to 40°40′08.30″ N, 073°03′17.70″ W; and then back to point of origin (NAD 83).
8.4 Island Beach Two Mile Swim | • Date: A single day during August.
| • Time: To be determined annually.
| • Location: All waters of Captain Harbor between Little Captain's Island and Bower's Island that are located within the box formed by connecting four points in the following positions. Beginning at 40°59′23.35″ N, 073°36′42.05″ W; then northwest to 40°59′51.04″ N, 073°37′57.32″ W; then southwest to 40°59′45.17″ N, 073°38′01.18″ W; then southeast to 40°59′17.38″ N, 073°36′45.9″ W; then northeast to the point of origin (NAD 83). All positions are approximate.
8.5 Waves of Hope Swim | • Date: A single day during August.
| • Time: To be determined annually.
| • Location: All waters of the Great South Bay off Amityville, NY, shoreward of a line created by connecting the following points. Beginning at a point at 40°39′22.38″ N, 073°25′31.63″ W; then south to a point at 40°39′2.18″ N, 073°25′31.63″ W; then east to a point at 40°39′2.18″ N, 073°24′3.81″ W; then north to a point at 40°39′18.27″ N, 073°24′3.81″ W; and then west back to point of origin (NAD 83). All positions are approximate.
8.6 Smith Point Triathlon | • Date: A single day event in August.
| • Time: To be determined annually.
| • Location: All waters of Narrow Bay near Smith Point Park in Mastic Beach, NY, within the area bounded by land along its southern edge and points in position at 40°44′14.28″ N, 072°51′40.68″ W; then north to a point at position 40°44′20.83″ N, 072°51′40.68″ W; then east to a point at position 40°44′20.83″ N, 072°51′19.73″ W; then south to a point at position 40°44′14.85″ N, 072°51′19.73″ W; and then southwest along the shoreline back to the point of origin (NAD 83). All positions are approximate.
9 | September
9.1 Head of the Tomahawk | • Date: A single day during September.
| • Time: To be determined annually.
| • Location: All navigable waters of the Connecticut River off South Glastonbury, CT. Beginning at position 41°41′18.88″ N; 072°37′16.26″ W; then downriver along the west bank to a point at position 41°38′49.12″ N, 072°37′32.73″ W; then across the Connecticut River to a point at position 41°38′49.5″ N, 072°37′19.55″ W; then upriver along the east bank to a point at position 41°41′25.82″ N, 072°37′9.08″ W; then across the Connecticut River to the point of origin (NAD 83).
| • Additional Stipulations: Non-event vessels transiting through the area during the enforcement period are to travel at no wake speeds or 6 knots, whichever is slower and that non-event vessels shall not block or impede the transit of event participants, event safety vessels or official patrol vessels in the regulated area unless authorized by COTP or designated representatives.
10 | October
10.1 Head of the Riverfront Rowing Regatta, Hartford, CT | • Date: A single day event in October. • Time: 5:30 a.m. until 5:30 p.m.
| • Location: All water of the Connecticut River, Hartford, CT, between at point North of Wethersfield Cove at 41°43′52.17″ N, 072°38′40.38″ W and the Riverside Boat House 41°46′30.98″ N, 072°39′54.35″ W (NAD 83).

PART 165—REGULATED NAVIGATION AREAS AND LIMITED ACCESS AREAS

3. The authority citation for Part 165 continues to read as follows:

Authority: 46 U.S.C. 70034, 70051; 33 CFR 1.05-1, 6.04-1, 6.04-6, and 160.5; Department of Homeland Security Delegation No. 0170.1.

4. Amend § 165.151 by revising table 1 to read as follows:

Table 1 to § 165.151
2 | February
2.1 Sag Harbor COC Winter Harbor Frost Fireworks | Date: A single day event in February. Location: Waters of Sag Harbor off Long Wharf St. Pier, Sag Harbor, NY, in approximate position 41°00′16.82″ N, 072°17′43.78″ W (NAD 83).
4 | April
4.1 Bridgeport Bluefish April Fireworks | • Location: Waters of the Pequannock River's Lower Reach surrounding Steel Point, Bridgeport, CT, in approximate position 41°10′35″ N, 073°10′58″ W (NAD 83).
5 | May
5.1 Jones Beach Air Show | • Date: The Thursday through Sunday before Memorial Day each May from 9:30 a.m. until 3:30 p.m. each day.
| • Location: Waters of the Atlantic Ocean off Jones Beach State Park, Wantagh, NY, contained within the following described area; beginning in approximate position 40°34′54″ N, 073°33′21″ W, then running east along the shoreline of Jones Beach State Park to approximate position 40°35′53″ N, 073°28′47″ W; then running south to a position in the Atlantic Ocean off of Jones Beach at approximate position 40°35′05″ N, 073°28′34″ W; then running West to approximate position 40°33′15″ N, 073°33′09″ W; then running North to the point of origin.
5.2 Greenport Spring Fireworks | • Date: A single day event in the month of May or June.
| • Location: Waters of Greenport Harbor off Mitchell Park and Marina, Greenport, NY, in approximate position 41°05′59.09″ N, 072°21′31.44″ W (NAD 83).
6 | June
6.1 Barnum Festival Fireworks | • Date: A single day event in June or July.
| • Time: 8:30 p.m. to 10:30 p.m.
| • Location: Waters of Bridgeport Harbor, Bridgeport, CT, in approximate position 41°9′04″ N, 073°12′49″ W (NAD 83).
6.2 Town of Branford Fireworks | • Location: Waters of Branford Harbor, Branford, CT, in approximate position, 41°15′30″ N, 072°49′22″ W (NAD 83).
6.3 Vietnam Veterans/Town of East Haven Fireworks | • Location: Waters off Cosey Beach, East Haven, CT, in approximate position, 41°14′19″ N, 072°52′9.8″ W (NAD 83).
6.4 Salute to Veterans Fireworks | • Date: A single day event in June.
| • Location: Waters of Reynolds Channel off Hempstead, NY, in approximate position 40°35′36.62″ N, 073°35′20.72″ W (NAD 83).
6.5 Cherry Grove Arts Project Fireworks | • Date: A single day event in June.
| • Location: Waters of the Great South Bay off Cherry Grove, NY, in approximate position 40°39′49.06″ N, 073°05′27.99″ W (NAD 83).
7 | July
7.1 Point O'Woods Fire Company Summer Fireworks | • Location: Waters of the Great South Bay, Point O'Woods, NY, in approximate position 40°39′18.57″ N, 073°08′5.73″ W (NAD 83).
7.2 Cancer Center for Kids Fireworks | • Location: Waters off of Bayville, NY, in approximate position 40°54′38.20″ N, 073°34′56.88″ W (NAD 83).
7.3 City of Westbrook, CT July Celebration Fireworks | • Location: Waters of Westbrook Harbor, Westbrook, CT, in approximate position, 41°16′10.50″ N, 072°26′14″ W (NAD 83).
7.4 Norwalk Fireworks | • Location: Waters off Calf Pasture Beach, Norwalk, CT, in approximate position, 41°04′50″ N, 073°23′22″ W (NAD 83).
7.5 Lawrence Beach Club Fireworks | • Location: Waters of the Atlantic Ocean off Lawrence Beach Club, Atlantic Beach, NY, in approximate position 40°34′42.65″ N, 073°42′56.02″ W (NAD 83).
7.6 Sag Harbor Fireworks | • Location: Waters of Sag Harbor Bay off Havens Beach, Sag Harbor, NY, in approximate position 41°00′26″ N, 072°17′9″ W (NAD 83).
7.7 South Hampton Fresh Air Home Fireworks | • Location: Waters of Shinnecock Bay, Southampton, NY, in approximate position, 40°51′48″ N, 072°26′30″ W (NAD 83).
7.8 Westport Police Athletic League Fireworks | • Location: Waters off Compo Beach, Westport, CT, in approximate position, 41°06′15″ N, 073°20′57″ W (NAD 83).
7.9 City of Middletown Fireworks | • Date: A single day event in June or July.
| • Time: 8:30 p.m. to 10:30 p.m.
| • Location: Waters of the Connecticut River, Middletown Harbor, Middletown, CT, in approximate position 41°33′44.47″ N, 072°38′37.88″ W (NAD 83).
7.10 City of New Haven Fireworks | • Date: A single day event in July.
| • Time: 8:30 p.m. to 10:30 p.m.
| • Location: Waters of New Haven Harbor, off Long Warf Park, New Haven, CT, in approximate position 41°17′24″ N, 072°54′55.8″ W (NAD 83).
7.11 City of Norwich July Fireworks | • Date: A single day event in July.
| • Time: 8:30 p.m. to 10:30 p.m.
| • Location: Waters of the Thames River, Norwich, CT, in approximate position, 41°31′16.835″ N, 072°04′43.327″ W (NAD 83).
7.12 City of Stamford Fireworks | • Date: A single day event in July.
| • Time: 8:30 p.m. to 10:30 p.m.
| • Location: Waters of Fisher's Westcott Cove, Stamford, CT, in approximate position 41°02′09.56″ N, 073°30′57.76″ W (NAD 83).
7.13 City of West Haven Fireworks | • Date: A single day event in June or July.
| • Time: 8:30 p.m. to 10:30 p.m.
| • Location: Waters of New Haven Harbor, off Bradley Point, West Haven, CT, in approximate position 41°15′07″ N, 072°57′26″ W (NAD 83).
7.14 CDM Chamber of Commerce Annual Music Fest Fireworks | • Date: July 4. • Rain date: July 5.
| • Time: 8:30 p.m. to 10:30 p.m.
| • Location: Waters off Cedar Beach Town Park, Mount Sinai, NY, in approximate position 40°57′59.58″ N, 073°01′57.87″ W (NAD 83).
7.15 Davis Park Fireworks | • Date: A single day event in July.
| • Time: 8:30 p.m. to 10:30 p.m.
| • Location: Waters of the Great South Bay, Davis Park, NY, in approximate position, 40°41′17″ N, 073°00′20″ W (NAD 83).
7.16 Fairfield Aerial Fireworks | • Date: A single day event in July.
| • Time: 8:30 p.m. to 10:30 p.m.
| • Location: Waters of Jennings Beach, Fairfield, CT, in approximate position 41°08′22″ N, 073°14′02″ W (NAD 83).
7.17 Fund in the Sun Fireworks | • Date: A single day event in July.
| • Time: 8:30 p.m. to 10:30 p.m.
| • Location: Waters of the Great South Bay off The Pines, East Fire Island, NY, in approximate position 40°40′07.43″ N, 073°04′13.88″ W (NAD 83).
7.18 Independence Day Celebration Fireworks | • Date: A single day event in July.
| • Time: 8:30 p.m. to 10:30 p.m.
| • Location: Waters off Umbrella Beach, Montauk, NY, in approximate position 41°01′44″ N, 071°57′13″ W (NAD 83).
7.19 Jones Beach State Park Fireworks | • Date: A single day event in July.
| • Time: 8:30 p.m. to 10:30 p.m.
| • Location: Waters off Jones Beach State Park, Wantagh, NY, in approximate position 40°34′56.676″ N, 073°30′31.186″ W (NAD 83).
7.20 Madison Cultural Arts Fireworks | • Date: A single day event in July.
| • Time: 8:30 p.m. to 10:30 p.m.
| • Location: Waters of Long Island Sound off Madison, CT, in approximate position 41°16′10″ N, 072°36′30″ W (NAD 83).
7.21 Mason's Island Yacht Club Fireworks | • Date: A single day event in July.
| • Time: 8:30 p.m. to 10:30 p.m.
| • Location: Waters of Fisher's Island Sound, Noank, CT, in approximate position 41°19′30.61″ N, 071°57′48.22″ W (NAD 83).
7.22 Patchogue Chamber of Commerce Fireworks | • Date: A single day event in July. • Time: 8:30 p.m. to 10:30 p.m.
| • Location: Waters of the Great South Bay, Patchogue, NY, in approximate position, 40°44′38″ N, 073°00′33″ W (NAD 83).
7.23 Riverfest Fireworks | • Date: A single day event in July.
| • Time: 8:30 p.m. to 10:30 p.m.
| • Location: Waters of the Connecticut River, Hartford, CT, in approximate positions, 41°45′39.93″ N, 072°39′49.14″ W (NAD 83).
7.24 Village of Asharoken Fireworks | • Date: A single day event in July.
| • Time: 8:30 p.m. to 10:30 p.m.
| • Location: Waters of Northport Bay, Asharoken, NY, in approximate position, 41°55′54.04″ N, 073°21′27.97″ W (NAD 83).
7.25 Village of Port Jefferson Fourth of July Celebration Fireworks | • Date: A single day event in July. • Time: 8:30 p.m. to 10:30 p.m.
| • Location: Waters of Port Jefferson Harbor, Port Jefferson, NY, in approximate position 40°57′10.11″ N, 073°04′28.01″ W (NAD 83).
7.26 Village of Quoque Foundering Anniversary Fireworks | • Date: A single day event in July. • Time: 8:30 p.m. to 10:30 p.m.
| • Location: Waters of Quantuck Bay, Quoque, NY, in approximate position 40°48′42.99″ N, 072°37′20.20″ W (NAD 83).
7.27 City of Long Beach Fireworks | • Location: Waters off Riverside Blvd., City of Long Beach, NY, in approximate position 40°34′38.77″ N, 073°39′41.32″ W (NAD 83).
7.28 Great South Bay Music Festival Fireworks | • Location: Waters of Great South Bay, off Bay Avenue, Patchogue, NY, in approximate position 40°44′45″ N, 073°00′25″ W (NAD 83).
7.29 Mashantucket Pequot Fireworks | • Location: Waters of the Thames River, New London, CT, in approximate positions Barge 1, 41°21′03.03″ N, 072°5′24.5″ W, Barge 2, 41°20′51.75″ N, 072°5′18.90″ W (NAD 83).
7.30 Shelter Island Fireworks | • Location: Waters of Gardiner Bay, Shelter Island, NY, in approximate position 41°04′39.11″ N, 072°22′01.07″ W (NAD 83).
7.31 Clam Shell Foundation Fireworks | • Location: Waters of Three Mile Harbor, East Hampton, NY, in approximate position 41°1′15.49″ N, 072°11′27.50″ W (NAD 83).
7.32 Town of North Hempstead Bar Beach Fireworks | • Location: Waters of Hempstead Harbor, North Hempstead, NY, in approximate position 40°49′54″ N, 073°39′14″ W (NAD 83).
7.33 Groton Long Point Yacht Club Fireworks | • Location: Waters of Long Island Sound, Groton, CT, in approximate position 41°18′05″ N, 072°02′08″ W (NAD 83).
7.34 Devon Yacht Club Fireworks | • Date: A single day event in July.
| • Location: Waters of Napeague Bay, in Block Island Sound off Amagansett, NY, in approximate position 40°59′41.40″ N, 072°06′08.70″ W (NAD 83).
7.35 Dolan Family Fourth Fireworks | • Date: A single day event in July.
| • Location: Waters of Oyster Bay Harbor in Long Island Sound off Oyster Bay, NY, in approximate position 40°53′42.50″ N, 073°30′04.30″ W (NAD 83).
7.36 Friar's Head Golf Club Fireworks | • Date: A day during the first two weeks of July.
| • Location: Waters of Long Island Sound off Baiting Hollow, NY, in approximate position, 40°58′19.53″ N, 072°43′45.65″ W (NAD 83).
7.37 Islip Fireworks | • Date: July 4.
| • Rain date: July 5.
| • Location: Waters of the Great South Bay off Bay Shore Manor Park, Islip, NY, in approximate position 40°42′24″ N, 073°14′24″ W (NAD 83).
7.38 Madison Fireworks | • Date: A single day event in July.
| • Location: Waters of Long Island Sound off Madison Beach, Madison, CT, in approximate position 41°16′03.93″ N, 072°36′15.97″ W (NAD 83).
7.39 Stratford Fireworks | • Date: A single day event in June or July.
| • Location: Waters of Long Island Sound surrounding Short Beach Park, Stratford, CT, in approximate position 41°09′50.82″ N, 073°06′47.13″ W (NAD 83).
7.40 Rowayton Fireworks | • Date: A single day event in July.
| • Location: Waters of Long Island Sound south of Bayley Beach Park, Rowayton, CT, in approximate position 41°03′11″ N, 073°26′41″ W (NAD 83).
7.41 Niantic Bay Fireworks | • Date: A day during the first three weeks of July.
| • Location: Waters of Niantic Bay 1,500 feet west of the Niantic River Railroad Bridge, Niantic, CT, in approximate position 41°19′22.59″ N, 072°11′03.47″ W (NAD 83).
7.42 Connetquot River Summer Fireworks | • Date: A single day event in July.
| • Location: Waters of the Connetquot River off Snapper Inn Restaurant, Oakdale, NY, in approximate position 40°43′32.38″ N, 073°9′02.64″ W (NAD 83).
7.43 North Bay Fourth of July Fireworks | • Date: A single day event in July.
| • Location: Waters of the Great South Bay in Patchogue Bay 4,000 feet southeast of Blue Point, NY, in approximate position 40°44′6.28″ N, 073°01′02.50″ W (NAD 83).
7.44 Sebonak Golf Club Fireworks | • Date: A single day event in July or August.
| • Location: Waters of the Great Peconic Bay ¾ of a mile northwest of Bullhead Bay, Shinnecock, NY, in approximate position 40°55′11.79″ N, 072°28′04.34″ W (NAD 83).
7.45 Xirinachs Family Foundation Fireworks | • Date: A single day event in July.
| • Location: Waters of Hunting Bay off Beach Avenue, Huntington Bay, NY, in approximate position 40°54′23.27″ N, 73°25′08.04″ W (NAD 83).
7.46 Irwin Family 4th of July | • Date: A single day event in June or July.
| • Location: Waters of the Great South Bay off The Helm Road, East Islip, NY, in approximate position 40°42′12.28″ N, 73°12′00.08″ W (NAD 83).
7.47 Westbrook July Celebration | • Date: A single day event in July.
| • Location: Waters of Long Island Sound Westbrook Harbor, West Brook, CT, in approximate position 41°16′10″ N, 72°26′14″ W (NAD 83).
8 | August
8.1 Village of Bellport Fireworks | • Location: Waters of Bellport Bay, off Bellport Dock, Bellport, NY, in approximate position 40°45′01.83″ N, 072°55′50.43″ W (NAD 83).
8.2 Taste of Italy Fireworks | • Location: Waters of Norwich Harbor, off Norwich Marina, Norwich, CT, in approximate position 41°31′17.72″ N, 072°04′43.41″ W (NAD 83).
8.3 Old Black Point Beach Association Fireworks | • Location: Waters off Old Black Point Beach, East Lyme, CT, in approximate position, 41°17′34.9″ N, 072°12′55″ W (NAD 83).
8.4 Town of Babylon Fireworks | • Location: Waters off of Cedar Beach Town Park, Babylon, NY, in approximate position 40°37′53″ N, 073°20′12″ W (NAD 83).
8.5 Shelter Island Yacht Club Fireworks | • Date: A single day event in August.
| • Location: Waters of Dering Harbor north of Shelter Island Yacht Club, Shelter Island, NY, in approximate position 41°05′23.47″ N, 072°21′11.18″ W (NAD 83).
8.6 Stamford Fireworks | • Date: A single day event in August.
| • Location: Waters of Stamford Harbor, off Kosciuszco Park, Stamford, CT, in approximate position 41°01′48.46″ N, 073°32′15.32″ W (NAD 83).
8.7 Nikon Theater at Jones Beach Fireworks | • Date: A single day event in August.
| • Location: Waters of Zacks Bay off the Nikon Theater, Jones Beach, NY, in approximate position 40°36′02.12″ N, 073°30′05.65″ W (NAD 83).
8.8 Ascension Fireworks | • Date: A single day event in August.
| • Location: Waters of the Great South Bay off The Pines, East Fire Island, NY, in approximate position 40°40′07.43″ N, 073°04′13.88″ W (NAD 83).
9 | September
9.1 East Hampton Fire Department Fireworks | • Location: Waters off Main Beach, East Hampton, NY, in approximate position 40°56′40.28″ N, 072°11′21.26″ W (NAD 83).
9.2 Town of Islip Labor Day Fireworks | • Location: Waters of Great South Bay off Bay Shore Marina, Islip, NY, in approximate position 40°42′24″ N, 073°14′24″ W (NAD 83).
9.3 Village of Island Park Labor Day Celebration Fireworks | • Location: Waters off Village of Island Park Fishing Pier, Village Beach, NY, in approximate position 40°36′30.95″ N, 073°39′22.23″ W (NAD 83).
9.4 The Creek Fireworks | • Date: A single day event in September.
| • Location: Waters of Long Island Sound off the Creek Golf Course, Lattingtown, NY, in approximate position 40°54′13″ N, 073°35′58″ W (NAD 83).
9.5 Archangel Michael Greek Orthodox Church Fireworks | • Date: A single day event in September or October. • Location: Waters of Hempstead Harbor off Bar Beach Town Park, Port Washington, NY, in approximate position 40°49′42″ N, 073°39′07″ W (NAD 83).
9.6 Port Washington Sons of Italy Fireworks | • Location: Waters of Hempstead Harbor off Bar Beach, North Hempstead, NY, in approximate position 40°49′48.04″ N, 073°39′24.32″ W (NAD 83).
11 | November
11.1 Charles W. Morgan Anniversary Fireworks | • Date: A day during the first or second weekend of November. • Location: Waters of the Mystic River, north of the Mystic Seaport Light, Mystic, CT, in approximate position 41°21′56.455″ N, 071°57′58.32″ W (NAD 83).
11.2 Christmas Boat Parade Fireworks | • Location: Waters of Patchogue Bay off Lombardi's on the Bay Restaurant, Patchogue, NY, in approximate position 40°44′39.18″ N, 073°00′37.80″ W (NAD 83).
11.3 Connetquot River Fall Fireworks | • Location: Waters of the Connetquot River off Snapper Inn Restaurant, Oakdale, NY, in approximate position 40°43′32.38″ N, 073°09′02.64″ W (NAD 83).
12 | December
12.1 Greenport Winter Fireworks | • Date: From 11:45 p.m. December 31 until 12:30 a.m. January 1.
| • Location: Waters of Greenport Harbor off Mitchell Park and Marina, Greenport, NY, in approximate position 41°05′59.09″ N, 072°21′31.44″ W (NAD 83).

Dated: June 11, 2020.
K.B. Reed,
Captain, U.S. Coast Guard, Captain of the Port Sector Long Island Sound.

[FR Doc. 2020-12944 Filed 6-24-20; 8:45 am]

BILLING CODE 9110-04-P